DEPARTMENT OF DEFENSE

Department of the Army

Notice of Availability of the Fort Sam Houston and Camp Bullis Master Plan Programmatic Environmental Impact Statement

AGENCY: Department of the Army, DoD.

ACTION: Notice of availability.

SUMMARY: This announces the availability of the Fort Sam Houston and Camp Bullis Master Plan Programmatic Environmental Impact Statement (PEIS), which assesses the potential environmental impacts of implementing three master planning alternatives. Alternative 1 (No Action) includes the continuation of the currently identified stationed Population reductions, as reflected in the Army Stationing and Installation Plan; the projected reductions in the Real Property Maintenance Activity budget program for facility maintenance and repair; the zero investment maintenance expenditures for vacant historical facilities; and the projected reductions in the Base Operations budget program for utilities and other engineering services. Alternative 2 (Reuse of Facilities and Property by Federal Users) would result in an adaptive reuse of currently vacant historical facilities using the existing appropriated funds process. This may be accomplished by bringing additional military missions to Fort Sam Houston through individual stationing decisions that take advantage of the capabilities of Fort Sam Houston, and/or additional federal missions through individual stationing decisions that take advantage of the capabilities of Fort Sam Houston.

Alternative 3 (Reduction of Underutilized/Unutilized Property through Lease, Sale, or Removal (preferred alternative)) would result in the reduction of underutilized/unutilized facilities and property on Fort Sam Houston and Camp Bullis, in addition to changes in the Land Use Plan. The reduction in underutilized/unutilized property may be accomplished through: outgrant leases to the city, county, state, private citizens, businesses, or investors; sale to the city, county, state, private citizens, businesses, or investors; removal from the site; or demolition. The Army may select any one alternative or a combination of alternatives for future activities and planning at Fort Sam Houston.

DATES: The review period for the Final PEIS will end 30 days after publication of the Notice of Availability in the Federal Register by the U.S. Environmental Protection Agency.

ADDRESSES: To obtain copies of the Final PEIS, contact Ms. Jackie Schlatter, PEIS Project Manager, ATTN: MCCS-BFE-N, 2202 15th Street (Bldg. 4196), Fort Sam Houston, Texas 78234-5007.

FOR FURTHER INFORMATION CONTACT: Ms. Jackie Schlatter at (210) 221-5093, by email at jackie.schlatter@cen.amedd.army.mil, or by fax at (210) 221-5419.

SUPPLEMENTARY INFORMATION: This document includes analyses of the potential environmental consequences that the alternative actions may have on land use and visual resources, transportation, utilities, earth resources, air quality, water resources, biological resources, cultural resources, socio-economics, noise, and hazardous materials and items of special concern. The findings indicate that potential environmental impacts from the alternatives may result in some impacts to cultural resources.

Copies of the PEIS have been provided to the following libraries for public access to the document: Fort Sam Houston Library, Building 1222, 2601 Harney, Fort Sam Houston, TX 78234 and the San Antonio Public Library, 600 Soledad Plaza, San Antonio, TX 78205.

Dated: April 29, 2002.
Raymond J. Fatz,
Deputy Assistant Secretary of the Army, (Environment, Safety and Occupational Health), OASA(I&E).

[FR Doc. 02-11115 Filed 5-3-02; 8:45 am]

BILLING CODE 3710-08-M